DEPARTMENT OF ENERGY

Federal Energy Regulatory Commission

[Docket No. TM00-1-25-005]

Mississippi River Transmission Corporation; Notice of Compliance Filing

December 13, 2000.

Take notice that on December 6, 2000, Mississippi River Transmission Corporation (MRT) filed with the Commission a compliance filing revising MRT's annual fuel filing pursuant to the FERC Order Granting Rehearing, issued on November 24, 2000 in Docket No. TM00-1-25-004 the following tariff sheets:

Thirty Ninth Revised Sheet No. 5

Thirty Ninth Revised Sheet No. 6

Thirty Sixth Revised Sheet No. 7

MRT states that a copy of this filing is being mailed to each of MRT's customers and to the state commissions of Arkansas, Illinois and Missouri.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32267 Filed 12-18-00; 8:45 am]

BILLING CODE 6717-01-M